DEPARTMENT OF HOUSING AND URBAN DEVELOPMENT

[Docket No. FR-5516-D-01]

Order of Succession for the Office of Congressional and Intergovernmental Relations

AGENCY: Office of the Assistant Secretary for Congressional and Intergovernmental Relations, HUD.

ACTION: Notice of order of succession.

SUMMARY: In this notice, the Assistant Secretary for Congressional and Intergovernmental Relations designates the Order of Succession for the Office of the Assistant Secretary for Congressional and Intergovernmental Relations. This Order of Succession supersedes all prior Orders of Succession for the Office of Congressional and Intergovernmental Relations.

DATES: Effective Date: September 30, 2011.

FOR FURTHER INFORMATION CONTACT: Aida N. Rodriguez, Office of Congressional and Intergovernmental Relations, Department of Housing and Urban Development, 451 7th Street, SW., Room 10120, Washington, DC 20410-6000, telephone number 202-708-0005. (This is not a toll-free number.) Persons with hearing or speech impairments may access this number through TTY by calling the toll-free Federal Relay Service at 1-800-877-8339.

SUPPLEMENTARY INFORMATION: The Assistant Secretary for Congressional and Intergovernmental Relations is issuing this Order of Succession of officials authorized to perform the duties and functions of the Office of the Assistant Secretary when, by reason of absence, disability, or vacancy in office, the Assistant Secretary is not available to exercise the powers or perform the duties of the Office. This Order of Succession is subject to the provisions of the Vacancy Reform Act of 1998 (5 U.S.C. 3345-3349d). This publication supersedes all prior Orders of Succession for the Office of Congressional and Intergovernmental Relations.

Accordingly, the Assistant Secretary for Congressional and Intergovernmental Relations designates the following Order of Succession:

Section A. Order of Succession

Subject to the provision of the Vacancy Reform Act of 1998, during any period when, by reason of absence, disability, or vacancy in office, the Assistant Secretary for Congressional and Intergovernmental Relations is not available to exercise the powers or perform the duties of the Office of the Assistant Secretary for Congressional and Intergovernmental Relations, the following officials within the Office of Congressional and Intergovernmental Relations are hereby designated to exercise the powers and perform the duties of the Office:

(1) General Deputy Assistant Secretary;

(2) Deputy Assistant Secretary for Congressional and Intergovernmental Relations;

(3) Deputy Assistant Secretary for Intergovernmental Relations.

These officials shall perform the functions and duties of the office, including the authority to waive regulations, in the order specified herein, and no official shall serve unless all the other officials, whose position titles precede his or hers in this order, are unable to act by reason of absence, disability, or vacancy in office.

Section B. Authority Superseded

This Order of Succession supersedes any prior Orders of Succession for the Office of Congressional and Intergovernmental Relations.

Authority: Section 7(d) of the Department of Housing and Urban Development Act, 42 U.S.C. 3535(d).

Dated: September 30, 2011.
Peter A. Kovar,
Assistant Secretary for Congressional and Intergovernmental Relations.

[FR Doc. 2011-26054 Filed 10-6-11; 8:45 am]

BILLING CODE 4210-67-P